DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of May 10, 2010 through May 14, 2010.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially separated from the workers' firm within—

(A) The 1-year period described in paragraph (2); or

(B) Notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W-72,288: Caterpillar, Americas Operations Division—Aurora Plant, Aurora, IL: September 8, 2008.

TA-W-72,331: Industrial Nut Corporation, Sandusky, OH: September 12, 2008.

TA-W-72,347: Genesis Furniture Industries, Inc., Spruce Pine, NC: September 10, 2008.

TA-W-72,711: Wire Products Company, Inc, Cleveland, OH: October 27, 2008.

TA-W-73,362: Leggett and Platt, Inc., Adjustable Bed Division, Winchester, KY: January 20, 2009.

TA-W-71,046: Dresser Waukesha, Division of Dresser, Inc. Leased Workers from Stivers Staffing Services, Waukesha, WI: June 5, 2008.

TA-W-72,472: Crane Merchandising Systems, North American Vending Solutions, Leased Workers Labor Ready, Michener etc., Bridgeton, MO: September 30, 2008.

TA-W-73,027: Picture Source, Leased Workers From Labor Works, Seattle, WA: November 25, 2008.

The following certifications have been issued. The requirements of Section 222(a)(2)(B) (shift in production or services) of the Trade Act have been met.

TA-W-72,411: Emerson Power Transmission, Division of Emerson Electric Co., Leased Workers from Challenge Industries etc, Ithaca, NY: September 21, 2008.

TA-W-73,047: United States Steel Corporation, Minnesota Ore Operations Division, Leased Workers from Manpower, Inc., Keewatin, MN: December 7, 2008.

TA-W-71,229: Diamond Chain Company, Division of Amsted Industries, Leased Workers from Manpower, Indianapolis, IN: June 11, 2008.

TA-W-71,636: Tri-Way Manufacturing, Inc., D/B/A Tri-Way Mold and Engineering, Roseville, MI: June 29, 2008.

TA-W-72,284: Intermatic Incorporated, Intermatic Distribution Center, American Staffing Resource, Spring Grove, IL: September 10, 2008.

TA-W-72,781: World Color (USA), LLC, Formerly Know As Quebecor World, Leased Workers from Randstad Temporary, Covington, TN: November 4, 2008.

TA-W-73,017: Clark Equipment Company, Bobcat Division, Bismarck, ND: December 2, 2008.

TA-W-73029A: Faurecia Exhaust Systems, West Plant, Troy, OH: December 7, 2008.

TA-W-73,029: Faurecia Exhaust Systems, East Plant, Troy, OH: December 7, 2008.

TA-W-73,112: Sundance Spas, Inc., Leased Workers from Personnel Plus, Chino, CA: December 15, 2008.

TA-W-73,183: Halliburton Company, Carrolton Mfg. & Technology, Leased Workers from Kelly Services, Icon, Carrolton, TX: December 16, 2008.

TA-W-73,409: Sumitomo Electric Wiring Systems, Inc., A Subsidiary of Sumitomo Electric Industries, LTD., Wiring Harness Division, Bowling Green, KY: February 2, 2009.

TA-W-73,742: Covidien, Medical Supplies Division, Leased Workers Kelly Services, First Choice Staffing, Oriskany Falls, NY: March 17, 2009.

TA-W-73,792: Kenkel Corporation, Adhesives Division, Leased Workers from Spherion and Agile 1, Buffalo, NY: March 17, 2009.

TA-W-73,120: SPX Corporation, Flow Technology Division, Buffalo, NY: December 16, 2008.

TA-W-73,558: Robert Bosch, LLC, On Leased Workers form Bosch Management Services NA, Quaker Chemical etc., Johnson City, TN: February 23, 2009.

TA-W-71450A: Hewlett Packard Company, Imaging and Printing Group, World Wide Product Data Management Operation, Fort Collins, CO: June 24, 2008.

TA-W-71,450: Hewlett Packard Company, Imaging and Printing Group, World Wide Product Data Management Operation, Boise, ID: June 24, 2008.

TA-W-72,602: AT&T Operations, Inc., Network Management Center, Leased Wkrs Artech Information Systems, LLC, Greenwood Village, CO: October 8, 2008.

TA-W-72,706: Berry Company, Local Insight Media Holdings, Inc., FKS Local Insight Yellow Pages, Erie, PA: June 22, 2008.

TA-W-73,135: Hewlett-Packard Company, Enterprise Business, Storage Works Division, Solutions Platform Division, Marlboro, MA: December 15, 2008.

TA-W-73,218: International Business Machines Corporation (IBM), ITD Business Unit, Division 7, E-mail and Collaboration Group, etc., Armonk, NY: January 6, 2009.

TA-W-73,289: Rainbow Play Systems Incorporated, Albert Lea, MN: January 14, 2009.

TA-W-73,423: The Berry Company LLC, Local Insight Media Holdings etc., Miamisburg, OH: February 1, 2009.

TA-W-73,424: The Berry Company LLC, A Subsidiary of Local Insight Media Holdings, Inc., Cincinnati, OH: February 1, 2009.

TA-W-73,425: The Berry Company LLC, Local Insight Media Holdings, Dayton, OH: February 1, 2009.

TA-W-73,563: International Business Machines (IBM), Global Business Services, Division 6C, Application Services), Sterling Forest, NY: February 24, 2009.

TA-W-72,378: Dow Jones & Company, Inc., Information Technology Department, Aerotech, Monmouth Junction, NJ: September 22, 2008.

TA-W-72,570: Michaels Stores, Inc., Accounts Payable Office, Tata Consulting Services, Grand Prairie, TX: October 5, 2008.

TA-W-73,371: The State Media Company, Finance Division, Leased Workers from John Shell Associates and Roper etc., Columbia, SC: January 22, 2009.

TA-W-73,727: Berry, Local Insight Media Holdings, Inc., Leased Workers from Kelly Services, Honolulu, HI: March 10, 2009.

TA-W-73,728: The Berry Company, LLC, Local Insight Media Holdings, Inc., FKS Local Insight Yellow Pages, St. Peters, MO: March 10, 2009.

TA-W-73,729: The Berry Company, LLC (LIYP), Local Insight Media Holdings, Inc., FKS Local Insight Yellow Pages, La Crosse, WI: March 10, 2009.

TA-W-73,730: The Berry Company, LLC (LIYP), Local Insight Media Holdings, Inc., FKS Local Insight Yellow Pages, Federal Way, WA: March 10, 2009.

TA-W-73,732: The Berry Company, LLC, Local Insight Media Holdings, Inc., FKS Local Insight Yellow Pages, Rochester, NY: March 10, 2009.

TA-W-73,733: The Berry Company, LLC, Local Insight Media Holdings, Inc., FKA Local Insight Yellow, Matthews, NC: March 10, 2009.

TA-W-73,519: SV Probe, Inc., Gilbert, AZ: February 16, 2009.

The following certifications have been issued. The requirements of Section 222(c) (supplier to a firm whose workers are certified eligible to apply for TAA) of the Trade Act have been met.

TA-W-71,829: Cameron Measurement Systems, Including leased Workers of Express Personnel, Duncan, OK: June 27, 2008.

TA-W-72,022: Heidtman Steel Products, Incorporated, Leased Workers from Phoenix Personnel, Erie, MI: July 13, 2008.

TA-W-72,406: Innovative Wood Products, Inc., Taylorsville, NC: September 16, 2008.

TA-W-72,444: Toppan Photomasks, Inc., Santa Clara, CA: September 23, 2008.

TA-W-73,276: Vail Forest Area, Division of Western Timberlands, Weyerhaeuser NR, Rainier, WA: January 12, 2009.

TA-W-73,398: Fuel Total Systems Company Ltd, Fuel Total Systems, California Corporation, Manpower, Lathrop, CA: February 1, 2009.

TA-W-73,502: McFarland Logging, Clinton, MT: February 10, 2009.

TA-W-72,001A: Briggs-Shaffner Acquisition Company, Simpsonville, SC: August 6, 2008.

TA-W-72,001: Briggs-Shaffner Acquisition Company, Simpsonville, SC: August 6, 2008.

TA-W-72,391: Ranal, Inc., DBA Ranal, Inc., On-Site Independent Contractors, Auburn Hills, MI: September 20, 2008.

TA-W-73,043: Weyerhaeuser Company NR, Albany Trucking Division, Weyerhaeuser Co, Albany, OR: December 4, 2008.

TA-W-73,260: Supplier Link Services, Including Leased Workers of Superior Staffing, Lafayette, CA: January 12, 2009.

TA-W-73,261: Toyota Logistics Services, Leased Workers from Harbor Services, Vascor LTD, Aerotek, Inc., etc., Fremont, CA: January 12, 2009.

Negative Determinations for Worker Adjustment Assistance

In the following cases, the investigation revealed that the eligibility criteria for worker adjustment assistance have not been met for the reasons specified.

The investigation revealed that the criterion under paragraph (a)(1), or (b)(1), or (c)(1) (employment decline or threat of separation) of section 222 has not been met.

TA-W-73,531: Titanium Metal Corporation, Toronto, OH.

The investigation revealed that the criteria under paragraphs (a)(2)(A)(i) (decline in sales or production, or both) and (a)(2)(B) (shift in production or services to a foreign country) of section 222 have not been met.

TA-W-72,477: Peterbilt Motors Company, Nashville Plant, Madison, TN.

The investigation revealed that the criteria under paragraphs (a)(2)(A) (increased imports) and (a)(2)(B) (shift in production or services to a foreign country) of section 222 have not been met.

TA-W-71,900: MacGregor Golf North America, Macgregor Golf Company, Albany, GA.

TA-W-72,154: Elcam, Inc., Clearfield, PA.

TA-W-72,229A: Microfibres, Inc., Belden, MS.

TA-W-72,229: Microfibres, Inc., Winston Salem, NC.

TA-W-72,350: Gits Manufacturing Company, Creston, IA.

TA-W-72,793: Gates Corporation, Fluid Power Division, Boone, IA.

TA-W-72,881: Smart Paper, Hamilton, OH.

TA-W-71,306: Sprint Nextel, Service and Repair Division, Grand Prairie, TX.

TA-W-71,836: Interstate Lift Trucks, Inc., Interlift Enterprises, Inc., Cleveland, OH.

Determinations Terminating Investigations of Petitions for Worker Adjustment Assistance

After notice of the petitions was published in the Federal Register and on the Department's Web site, as required by Section 221 of the Act (19 U.S.C. 2271), the Department initiated investigations of these petitions.

The following determinations terminating investigations were issued because the petitioner has requested that the petition be withdrawn.

TA-W-72,508: American Axle and Manufacturing, Detroit, MI.

TA-W-72,714: General Motors Company, Paint and Polymers Engineering Division, Warren, MI.

TA-W-73,068: Grede Foundries, Incorporated, Vassar Foundry, Vassar, MI.

The following determinations terminating investigations were issued because the petitioning groups of workers are covered by active certifications. Consequently, further investigation in these cases would serve no purpose since the petitioning group of workers cannot be covered by more than one certification at a time.

TA-W-73,661: Maersk Agency USA, Inc., Charlotte, NC.

I hereby certify that the aforementioned determinations were issued during the period of May 10, 2010 through May 14, 2010. Copies of these determinations may be requested under the Freedom of Information Act. Requests may be submitted by fax, courier services, or mail to FOIA Disclosure Officer, Office of Trade Adjustment Assistance (ETA), U.S. Department of Labor, 200 Constitution Avenue, NW., Washington, DC 20210 or to foiarequest@dol.gov. These determinations also are available on the Department's Web site at http://www.doleta.gov/tradeact under the searchable listing of determinations.

Dated: May 20, 2010.
Elliott S. Kushner,
Certifying Officer, Division of Trade Adjustment Assistance.

[FR Doc. 2010-12891 Filed 5-27-10; 8:45 am]

BILLING CODE 4510-FN-P